ENVIRONMENTAL PROTECTION AGENCY

[ER-FRL-9030-5]

Environmental Impact Statements; Notice of Availability

Responsible Agency: Office of Federal Activities, General Information (202) 564-7146 or http://www.epa.gov/nepa.

Weekly receipt of Environmental Impact Statements

Filed 11/21/2016 Through 11/25/2016

Pursuant to 40 CFR 1506.9.

Notice

Section 309(a) of the Clean Air Act requires that EPA make public its comments on EISs issued by other Federal agencies. EPA's comment letters on EISs are available at: http://www.epa.gov/compliance/nepa/eisdata.html.

EIS No. 20160283, Final, NPS, FL, ADOPTION—Central Everglades Planning Program, Review Period Ends: 01/03/2017, Contact: Robert Johnson 305-244-4235.

The U.S. Department of the Interior's National Park Service (NPS) is adopting the U.S. Army Corps of Engineers Final EIS #20140215, filed with EPA 07/31/2014. The NPS was not a cooperating agency for this project. Therefore, recirculation of the document is necessary under Section 1506.3(b) of Council on Environmental Quality Regulations.

EIS No. 20160284, Draft, TVA, TN, Multiple Reservoir Land Management Plans, Comment Period Ends: 01/31/2017, Contact: Matthew Higdon 865-632-8051.

Dated: November 29, 2016.
Dawn Roberts,
Management Analyst, NEPA Compliance Division, Office of Federal Activities.

[FR Doc. 2016-29010 Filed 12-1-16; 8:45 am]

BILLING CODE 6560-50-P